DEPARTMENT OF THE INTERIOR

Fish and Wildlife Service

[FWS-R7-ES-2010-N055; 70120-1113-0000-C4]

Endangered and Threatened Wildlife and Plants; Spectacled Eider (Somateria fischeri): Initiation of 5-Year Status Review

AGENCY: Fish and Wildlife Service, Interior.

ACTION: Notice of initiation of 5-year status review and request for information.

SUMMARY: We, the U.S. Fish and Wildlife Service (Service), announce the initiation of a 5-year status review for the spectacled eider (Somateria fischeri), a bird species listed as threatened under the Endangered Species Act of 1973, as amended (Act). We conduct 5-year reviews to ensure that our classification of each species as threatened or endangered on the List of Endangered and Threatened Wildlife and Plants is accurate. We request any new information on this species that may have a bearing on its classification as threatened. Based on the results of this 5-year review, we will make a finding on whether this species is properly classified under the Act.

DATES: To allow us adequate time to conduct our 5-year review, we are requesting that you submit your information no later than June 7, 2010. However, we accept new information about any listed species at any time.

ADDRESSES: For instructions on how to submit information for our 5-year review, see “Request for New Information.”

FOR FURTHER INFORMATION CONTACT: Karen Laing, Endangered Species Biologist, at the address under “Contacts”or by phone at (907) 786-3459.

SUPPLEMENTARY INFORMATION:

I. Background

We originally listed the spectacled eider (Somateria fischeri) as threatened under the Act on May 10, 1993 (58 FR 27474). For the description, taxonomy, distribution, status, breeding biology and habitat, and a summary of factors affecting the species, please see the final listing rule. A recovery plan was completed on August 12, 1996. On February 6, 2001 (66 FR 9146), we designated critical habitat for the species.

Three breeding populations have been identified: In Arctic Russia (AR) on the Siberian coast, and in Alaska on the coastal zone of the Yukon-Kuskokwim Delta (YKD) and on the Arctic Coastal Plain (ACP). Molting occurs at sea in nearshore waters. The wintering area is in polynyas (openings in sea ice) in the central Bering Sea south of St. Lawrence Island.

The spectacled eider breeding population on the YKD declined by 94-98 percent between the early 1970s and the 1993 listing date, from 47,700-70,000 nesting pairs to 1,700-3,000 pairs. There were thought to be 3,000 pairs on the ACP in the 1970s. Although there was no standard survey of the ACP population in the early 1990s, there was evidence of an 80 percent decline in breeding birds at Prudhoe Bay between 1981 and 1991. The size of the AR breeding population was unknown at listing. The causes of these declines were unknown; potential contributory factors include harvest, ingestion of spent lead shot, and predation. Recovery actions in the recovery plan focus on ameliorating these threats, and on monitoring populations.

Since 1993, the YKD population has varied, but apparently increased in the last decade, with 4,991 (Standard Error 641) nesting pairs estimated in 2008. The ACP population survey provides an index of individual birds on breeding grounds rather than nests. The estimate in 2008 was 6,207 (Standard Error 592) birds; no trend is evident since the survey began in 1993. Aerial surveys in Arctic Russia during the period 1993-1995 provided an index of 146,245 birds.

II. Initiation of 5-Year Status Review

A. Why Do We Conduct a 5-Year Review?

Under the Act (16 U.S.C. 1531 et seq.), we maintain a List of Endangered and Threatened Wildlife and Plants (List) in the Code of Federal Regulations (CFR) at 50 CFR 17.11 (for animals) and 17.12 (for plants). An informational copy of the List, which covers all listed species, is also available on our Internet site at http://endangered.fws.gov/wildlife.html#Species. Section 4(c)(2)(A) of the Act requires us to review the status of each listed species at least once every 5 years. Then, based on such review, under section 4(c)(2)(B), we determine whether any species should be removed from the List (delisted), reclassified from endangered to threatened, or reclassified from threatened to endangered. Any change in Federal classification requires a separate rulemaking process.

Our regulations in 50 CFR 424.21 require that we publish a notice in the Federal Register announcing the species we are reviewing. This notice announces our active 5-year status review of the threatened spectacled eider.

B. What Information Do We Consider in Our Review?

We consider the best scientific and commercial data available at the time we conduct our review. This includes new information that has become available since our current listing determination or most recent status review of the species, such as new information regarding:

A. Species biology, including but not limited to population trends, distribution, abundance, demographics, and genetics;

B. Habitat conditions, including but not limited to amount, distribution, and suitability;

C. Conservation measures that have been implemented that benefit the species;

D. Threat status and trends (see five factors under heading “How Do We Determine Whether a Species is Endangered or Threatened?”); and

E. Other new information, data, or corrections, including but not limited to taxonomic or nomenclatural changes, identification of erroneous information contained in the List, and improved analytical methods.

C. How Do We Determine Whether a Species is Endangered or Threatened?

Section 4(a)(1) of the Act requires that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Under section 4(b)(1) of the Act, we are required to base our assessment of these factors solely on the best scientific and commercial data available.

D. What Could Happen as a Result of Our Review?

For each species we review, if we find new information indicating a change in classification may be warranted, we may propose a new rule that could do one of the following:

A. Reclassify the species from threatened to endangered (uplist);

B. Reclassify the species from endangered to threatened (downlist); or

C. Remove the species from the List (delist).

If we determine that a change in classification is not warranted, then the species remains on the List under its current status.

We must support any delisting by the best scientific and commercial data available, and only consider delisting if such data substantiate that the species is neither endangered nor threatened for one or more of the following reasons:

A. The species is considered extinct;

B. The species is considered to be recovered; and/or

C. The original data available when the species was listed, or the interpretation of such data, were in error (50 CFR 424.11(d)).

E. Request for New Information

To ensure that a 5-year review is complete and based on the best available scientific and commercial information, we request new information from the public, governmental agencies, Tribes, the scientific community, environmental entities, industry, and any other interested parties concerning the status of the species.

See “What Information Do We Consider in Our Review?” for specific criteria. If you submit information, support it with documentation such as maps, bibliographic references, methods used to gather and analyze the data, and/or copies of any pertinent publications, reports, or letters by knowledgeable sources.

Submit your comments and materials to office listed under “Contacts.”

F. Public Availability of Comments

Before including your address, phone number, e-mail address, or other personal identifying information in your comment, you should be aware that your entire comment—including your personal identifying information—may be made publicly available at any time. While you can ask us in your comment to withhold your personal identifying information from public review, we cannot guarantee that we will be able to do so. Comments and materials received will be available for public inspection, by appointment, during normal business hours at the offices where we receive comments.

III. Contacts

Submit your comments and information on this species, as well as any request for information, by any one of the following methods. You may also view information and comments we receive in response to this notice, as well as other documentation in our files, at the following locations by appointment, during normal business hours.

E-mail: Karen_laing@fws.gov; Use “spectacled eider” as the message subject line.

Fax: Attn: Karen Laing, (907) 786-3848.

U.S. mail: Karen Laing, U.S. Fish and Wildlife Service, MS-361, 1011 E. Tudor Road, Anchorage, AK 99503.

In-Person drop-off or Document review/pickup: You may drop off comments and information, review/obtain documents, or view received comments during regular business hours at the above address.

IV. Definitions

(A) Species includes any species or subspecies of fish, wildlife, or plant, and any distinct population segment of any species of vertebrate, which interbreeds when mature; (B) Endangered means any species that is in danger of extinction throughout all or a significant portion of its range; and

(C) Threatened means any species that is likely to become an endangered species within the foreseeable future throughout all or a significant portion of its range.

V. Authority

We publish this notice under the authority of the Endangered Species Act of 1973, as amended (16 U.S.C. 1531 et seq.).

Dated: March 30, 2010.
Gary Edwards,
Acting Regional Director, Region 7, U.S. Fish and Wildlife Service.

[FR Doc. 2010-7794 Filed 4-6-10; 8:45 am]

BILLING CODE 4310-55-P